ENVIRONMENTAL PROTECTION AGENCY

40 CFR Part 52

[AZ 094-0027a; FRL-6916-2]

Approval and Promulgation of Implementation Plans; Arizona State Implementation Plan Revision, Coconino County, Mohave County, and Yuma County

AGENCY: Environmental Protection Agency (EPA).

ACTION: Direct final rule.

SUMMARY: EPA is taking direct final action to approve revisions to the Coconino County, Mohave County, and Yuma County portions of the Arizona State Implementation Plan (SIP). These revisions concern the recision of all of the remaining defunct SIP rules from these counties. We are approving the recision of local rules that no longer regulate permitting procedures and various emission sources under the Clean Air Act as amended in 1990 (CAA or the Act).

DATES: This rule is effective on July 20, 2001 without further notice, unless EPA receives adverse comments by June 20, 2001. If we receive such comment, we will publish a timely withdrawal in the Federal Register to notify the public that this rule will not take effect.

ADDRESSES: Mail comments to Andrew Steckel, Rulemaking Office, AIR-4, Air Division, U.S. Environmental Protection Agency, Region IX, 75 Hawthorne Street, San Francisco, CA 94105.

You may inspect the submittal documents and our technical support documents (TSDs) at our Region IX office during normal business hours. You may also go to the following locations:

Environmental Protection Agency, Air Docket (6102), Ariel Rios Building, 1200 Pennsylvania Avenue, NW., Washington, DC 20460.

Arizona Department of Environmental Quality, 3033 North Central Avenue, Phoenix, AZ 85012.

FOR FURTHER INFORMATION CONTACT: Al Petersen, Rulemaking Office (AIR-4), Air Division, U.S. Environmental Protection Agency, Region IX, 75 Hawthorne Street, San Francisco, CA 94105, Telephone: (415) 744-1135.

SUPPLEMENTARY INFORMATION: Throughout this document wherever “we,” “us,” or “our” are used, we mean EPA.

Table of Contents

I. The State's Submittal

A. What rules did the State submit for recision?

B. Are there other versions of the recision submittals?

C. What is the purpose of the recision submittals?

II. EPA's Evaluation and Action

A. How is EPA evaluating the recision submittals?

B. Do the recision submittals meet the evaluation criteria?

C. Public comment and final action.

III. Background Information

Why were these rules originally approved into the SIP?

IV. Administrative Requirements

I. The State's Submittal

A. What Rules Did the State Submit for Recision?

The Coconino County rules submitted for recision are listed in Table 1. These rules were previously approved for incorporation into the Arizona SIP on November 15, 1978 (43 FR 53031). The replacement ADEQ rules are listed where applicable. Other justifications for recision are noted.

Table 1.—Coconino County Rules for Recision
Rule No. | Rule title | Replacement ADEQ SIP rule number
12-1-1 | Legal Authority | (Note 1).
12-1-2 | Definitions | R9-3-101.
12-1-3 | Air Pollution Prohibited | (Note 1).
12-2-2 | Operating Permits | R9-3-301.
12-2-4 | Permit Fees | (Note 1).
12-2-5 | Permit Renewals | (Note 1).
12-2-7 | Testing of Installations | R9-3-313.
12-2-8 | Compliance with Terms of Installation Permit | R9-3-318.
12-2-9 | Notification of Denial of Permit | (Note 1).
12-2-10 | Appeals to the Hearing Board | (Note 1).
12-2-11 | Permits Not Transferable | R9-3-317.
12-2-12 | Expiration of Installation Permit | (Note 1).
12-2-13 | Posting of Permits | R9-3-315.
12-3-1 | Ambient Air Quality Standards | R9-3-201, 202, 204, 205, 206, 207.
12-3-3 | Reporting of Emissions | R9-3-314.
12-3-4 | Production of Records: Confidentiality | R9-3-305.
12-3-5 | Monitoring Devices | R9-3-306.
12-3-6 | Penalty for Violation | (Note 1).
12-4-1 | Shade, Density, or Opacity of Emissions | R9-3-501.
12-4-2 | Dust Control | R9-3-404, 405.
12-4-3 | Processing of Animal or Vegetable Matter | (Note 1).
12-4-4 | Volatile and Odorous Materials | (Note 1).
12-4-5 | Storage and Handling of Petroleum Products | R9-3-510.
12-5-1 | Permit Required | R9-3-301.
12-5-2 | Performance Tests: Permit Tags | R9-3-306, 312(G).
12-5-3 | Emission Limitations | (Note 2).
12-5-4 | Authority of Other Public Agencies | (Note 1).
12-6-1 | Unlawful Open Burning | R9-3-402.
12-6-2 | Exceptions Requiring No Permission | R9-3-402.
12-6-3 | Exceptions Requiring Permission | R9-3-402 (Note 2).
12-6-4 | Exceptions Under Special Circumstances | R9-3-402.
12-7-1 | Misdemeanor: Penalty | (Note 1).

The Mohave County rules submitted for recision are listed in Table 2. These rules were previously approved for incorporation into the Arizona SIP on November 15, 1978 (43 FR 53031). The replacement ADEQ rules are listed where applicable. Other justifications for recision are noted.

Table 2.—Mohave County Rules for Recision
Rule No. | Rule title | Replacement ADEQ SIP rule number
1-1 | Policy and Legal Authority | (Note 1).
1-2 | Definitions | R9-3-101.
1-3 | Air Pollution Prohibited | (Note 1).
1-4 | Enforcement | (Note 1).
2-1 | Shade, Density, or Opacity of Emissions | R9-3-501.
2-2 | Particulate Matter | R9-3-404, 405.
2-3 | Reduction of Animal or Vegetable Matter | (Note 1).
2-4 | Evaporation and Leakage | R9-3-502(D).
2-5 | Storage Tanks | R9-3-510.
3-1 | Particulate Matter from Fuel-Burning Installations | R9-3-524.
3-2 | Particulate Matter from Other Sources | R9-3-502.
3-6 | Incinerators | R9-3-504 (Note 2).
4-1 | Responsibility of Testing | R9-3-312.
4-2 | Requirements of Testing | R9-3-312.
5-1 | Prohibition and Exceptions | R9-3-402 (Note 2).
6-1 | Sulfur Dioxide | R9-3-202.
6-2 | Non-Specific Particlulate | R9-3-201.
6-3 | Evaluation | (Note 1).
6-4 | Anti-Degradation | (Note 1).
7 | Violations | R9-3-218.

The Yuma County rules submitted for recision are listed in Tables 3 and 4. These rules were previously approved for incorporation into the Arizona SIP on November 15, 1978 (43 FR 53031) and on April 12, 1982 (47 FR 15580), respectively. The replacement ADEQ rules are listed where applicable. Other justifications for recision are noted.

Table 3.—Yuma County Rules (Previously Approved November 15, 1978) for Recision
Rule No. | Rule title | Replacement ADEQ SIP rule number
8-1-1.1 | Policy and Legal Authority | (Note 1).
8-1-2.7 | Evaluation | R9-3-216.
8-1-2.10 | Emergency Episode Criteria | R9-3-219.
8-1-4.2 | Fuel Burning Installations | R9-3-503.
8-1-4.3 | Sulfur Emissions—Sulfite Pulp Mills | (Note 2).
8-1-4.4 | Sulfur Emissions—Sulfuric Acid Plants | R9-3-507.
8-1-4.5 | Sulfur Emissions—Other Industries | (Note 2).
8-1-5.1 | Storage of Volatile Organic Compounds | R9-3-510.
8-1-5.2 | Loading of Volatile Organic Compounds | R9-3-510.
8-1-5.3 | Pumps and Compressors | R9-3-510.
8-1-5.4 | Organic Solvents; Other Volatile Compounds | R9-3-502(D).
8-1-6.1 | CO Emissions from Stationary Sources—Industrial | R9-3-502(G).
8-1-7.1 | NO2 Emissions—Fuel Burning Equipment | R9-3-503(C).
8-1-7.2 | NO2 Emissions—Nitric Acid Plants | R9-3-506.
8-1-8.1 | Open Burning—Prohibitions | R9-3-402.
8-1-8.2 | Open Burning—Exceptions | R9-3-402.

Table 4.—Yuma County Rules (Previously Approved April 12, 1982) for Recision
Rule No. | Rule title | Replacement ADEQ SIP rule number
8-1-1.2 | Definitions | R9-3-101.
8-1-1.3 | Air Pollution Prohibited | (Note 1).
8-1-1.4 | Enforcement | (Note 1).
8-1-1.5 | Violations | (Note 1).
8-1-1.6 | Penalties | (Note 1).
8-1-1.8 | Permits, Exceptions Applications: Fees | R9-3-302, 304.
8-1-1.9 | Posting of Permit | R9-3-315.
8-1-1.10 | Notice by Building Permit Agencies | R9-3-316.
8-1-1.11 | Permit Nontransferable: Exception | R9-3-317.
8-1-1.12 | Recordkeeping and Reporting | R9-3-314.
8-1-1.13 | Emissions Test Methods and Procedures | R9-3-311.
8-1-2.1 | Non-specific Particulate | R9-3-201.
8-1-2.2 | Sulfur Dioxide | R9-3-202.
8-1-2.3 | Non-Methane Hydrocarbons | (Note 1).
8-1-2.4 | Photochemical Oxidants | R9-3-204.
8-1-2.5 | Carbon Monoxide | R9-3-205.
8-1-2.6 | Nitrogen Dioxide | R9-3-206.
8-1-2.8 | Anti-Degradation | (Note 1).
8-1-3.1 | Visible Emissions: General | R9-3-410, 501.
8-1-3.2 | Emissions from Existing and New Non-Point Sources: General | R9-3-401.
8-1-3.3 | Open Burning | R9-3-402.
8-1-3.4 | Criteria for Establishing Burn Hours | R9-3-402.
8-1-3.5 | Fugitive Dust and Particulate Matter | R9-3-404, 405, 406, 409.
8-1-3.6 | Evaluation of Non-Point Source Emissions | R9-3-410.
8-1-3.7 | Existing Point Source Performance Standards: General Unclassified Sources | R9-3-502.
8-1-3.8 | Standards of Performance for Existing Fossil-Fuel Fired Steam Generators and General Fuel Burning Equipment | R9-3-503.
8-1-3.9 | Incinerators | R9-3-504.
8-1-3.10 | Standards of Performance for Existing Asphalt Concrete Plants | R9-3-508.
8-1-3.11 | Petroleum Storage | R9-3-510.
8-1-3.12 | Standards of Performance for Steel Plants: Existing Arc Furnace | R9-3-517 (Note 2).
8-1-3.13 | Standards of Performance for Existing Stationary Rotating Machinery | R9-3-519 (Note 2).
8-1-3.14 | Standards of Performance for Existing Gravel and Crushed Stone Processing Plants | R9-3-522.
8-1-3.15 | Existing Concrete Batch Plants | R9-3-523.
8-1-3.16 | Standards of Performance for Existing Fossil-Fuel Fired Industrial and Commercial Equipment | R9-3-524.
8-1-3.17 | Existing Dry Cleaning Plants | R9-3-525.
8-1-3.18 | Sandblasting Equipment | R9-3-526.
8-1-3.19 | Spray Painting Operations | R9-3-527.
8-1-3.20 | Asphalt or Tar Kettles | R9-3-605.
Appendix I | Fuel Burning Equipment Schedule | (Note 3).
Appendix II | Allowable Particulate Emissions Computations | (Note 3).
Notes for Tables 1, 2, 3, and 4:
1. Designates a rule that we determined to be not appropriate for inclusion in the SIP, because it is unenforceable, replaced by a federal standard, refers solely to non-criteria pollutants, or refers to local procedural matters, such as those concerning assessment of fees, enforcement, issuance of permits, and local hearing board procedures.
2. Designates a rule without an exact parallel ADEQ SIP rule, for which a demonstration was provided by the ADEQ to show that rescinding the rule is consistent with section 110(l) of the CAA regarding rule relaxations.
3. Designates a rule not submitted for recision by ADEQ. We are removing the rule pursuant to our authority under section 110(k)(6) of the CAA, because it is not appropriate for inclusion in the SIP, removing the rule will not affect emissions, and we are correcting the error of previously incorporating the rule into the SIP.

On July 26, 2000, we found that these rule recision submittals meet the completeness criteria in 40 CFR part 51, appendix V, which must be met before formal EPA review.

B. Are There Other Versions of the Recision Submittals?

There are no previous recision submittals on which we have not acted.

C. What is the Purpose of the Recision Submittals?

The Coconino County, Mohave County, and Yuma County originally adopted a set of air pollution control rules that we approved into the Arizona SIP. These counties later dissolved their air pollution control districts and elected to have the ADEQ administer Arizona state rules in their counties. The remaining SIP rules in the individual counties are defunct and not used to enforce air regulations in those counties. All remaining SIP rules in these counties are rescinded by this action.

II. EPA's Evaluation and Action

A. How Is EPA Evaluating the Recision Submittals?

Generally, the recision of SIP rules must not relax existing requirements of the SIP. Sections 110(l) and 193 of the CAA. If requirements are relaxed, the ADEQ must demonstrate that the modifications do not interfere with attainment of the NAAQS or otherwise violate sections 110(l) or 193.

B. Do the Recision Submittals Meet the Evaluation Criteria?

We believe the recision submittals are consistent with the CAA and relevant policy and guidance regarding SIP relaxations. The TSD has more information on our evaluation.

C. Public Comment and Final Action.

As authorized in section 110(k)(3) and 110(k)(6) of the CAA, we are approving the recision submittals, because we believe they fulfill all relevant requirements. We do not think anyone will object to this, so we are finalizing the approval without proposing it in advance. However, in the Proposed Rules section of this Federal Register, we are simultaneously proposing approval of the same recision submittal. If we receive adverse comments by June 20, 2001, we will publish a timely withdrawal in the Federal Register to notify the public that the direct final approval will not take effect and we will address the comments in a subsequent final action based on the proposal. If we do not receive timely adverse comments, the direct final recision will be effective without further notice on July 20, 2001. This will remove the rules from the federally enforceable SIP.

III. Background Information

Why Were These Rules Originally Approved Into the SIP?

The rules regulate some of the seven criteria pollutants, which harm human health and the environment, and regulate permitting procedures for control of these pollutants. Section 110(a) of the CAA required states to submit regulations that control the emission of these pollutants.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 20, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon Monoxide, Incorporation by reference, Nitrogen dioxide, Ozone, Particulate matter, Reporting and recordkeeping requirements, Sulfur dioxide, Volatile organic compound.

Authority: 42 U.S.C. 7401 et seq.

Dated: September 8, 2000.
Felicia Marcus,
Regional Administrator, Region IX.

Part 52, chapter I, title 40 of the Code of Federal Regulations is amended as follows:

PART 52—[AMENDED]

1. The authority citation for part 52 continues to read as follows:

Authority: 42 U.S.C. 7401 et seq.

Subpart D—Arizona

2. Section 52.120 is amended by adding paragraphs (c)(18)(i)(B), (c)(18)(ii)(A), (c)(18)(iii)(A), and (c)(35)(i)(B) to read as follows:

§ 52.120 Identification of plan.

* * * * *

(c) * * *

(18) * * *

(i) * * *

(B) Previously approved on November 15, 1978 in paragraph (i) of this section and now deleted without replacement Rules 12-1-1 through 12-1-3, 12-2-2, 12-2-4, 12-2-5, 12-2-7 through 12-2-13, 12-3-1, 12-3-3 through 12-3-6, 12-4-1 through 12-4-5, 12-5-1 through 12-5-4, 12-6-1 through 12-6-4, and 12-7-1.

(ii) * * *

(A) Previously approved on November 15, 1978 in paragraph (ii) of this section and now deleted without replacement Rules 1-1 through 1-4, 2-1 through 2-5, 3-1, 3-2, 3-6, 4-1, 4-2, 5-1, 6-1 through 6-4, and 7.

(iii) * * *

(A) Previously approved on November 15, 1978 in paragraph (iii) of this section and now deleted without replacement Rules 8-1-1.1, 8-1-2.7, 8-1-2.10, 8-1-4.2 through 8-1-4.5, 8-1-5.1 through 8-1-5.4, 8-1-6.1, 8-1-7.1, 8-1-7.2, 8-1-8.1, and 8-1-8.2.

* * * * *

(35) * * *

(i) * * *

(B) Previously approved on April 12, 1982 in paragraph (i)(A) of this section and now deleted without replacement Rules 8-1-1.2 through 8-1-1.6, 8-1-1.8 through 8-1-1.13, 8-1-2.1 through 8-1-2.6, 8-1-2.8, 8-1-3.1 through 8-1-3.20, Appendix I, and Appendix II.

* * * * *

[Editorial note: This document was received at the Office of the Federal Register on May 15, 2001.]

[FR Doc. 01-12572 Filed 5-18-01; 8:45 am]

BILLING CODE 6560-50-P